DEPARTMENT OF AGRICULTURE

Food and Nutrition Service

Agency Information Collection Activities, Proposed Collection: Request for Comments on Guidance for Supplemental Nutrition Assistance Program (SNAP) Certification and Quality Control Interviews Study

AGENCY: Food and Nutrition Service (FNS), USDA.

ACTION: Notice.

SUMMARY: In accordance with the Paperwork Reduction Act of 1995, this notice invites the general public and other public agencies to comment on this proposed information collection. This is a new information collection for the contract of the study titled Guidance for SNAP Certification and Quality Control Interviews. The purpose of this collection is to help FNS develop new guidance for SNAP eligibility and Quality Control interviews based on principles of human-centered design and cultural competency.

DATES: Written comments must be received on or before January 21, 2025.

ADDRESSES: Comments may be mailed to Eric Williams, Food and Nutrition Service, U.S. Department of Agriculture, 1320 Braddock Place, 5th Floor, Alexandria, VA 22314. Comments may also be submitted via email to eric.williams@usda.gov. Comments will also be accepted through the Federal eRulemaking Portal. Go to https://www.regulations.gov and follow the online instructions for submitting comments electronically.

All responses to this notice will be summarized and included in the request for Office of Management and Budget approval. All comments will be a matter of public record.

FOR FURTHER INFORMATION CONTACT: Requests for additional information or copies of this information collection should be directed to Eric Williams at (703) 305-2640.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Guidance for SNAP Certification and Quality Control Interviews.

Form Number: Not applicable.

OMB Number: 0584-NEW.

Expiration Date: Not yet determined.

Type of Request: New collection.

Abstract: The SNAP is the foundation of the nation's nutrition safety net. SNAP provides benefits to millions of people who are experiencing economic hardship, and those benefits help to avert hunger. SNAP eligibility interviews help determine eligibility and benefit levels for SNAP applicants. SNAP Quality Control (QC) interviews help measure how accurately State agencies determine SNAP households' eligibility and benefit amounts.

This project will produce new guides for SNAP eligibility and QC interviews that SNAP agencies will have the option to use or adapt. The guides will incorporate principles of human-centered design (HCD) and cultural competency (that is, the ability to serve clients from diverse cultures and communities effectively). Infusing the interview processes with the principles of HCD and cultural competency will help expand equitable access to SNAP.

To draft the updated interview guides, the study team examined literature on HCD and cultural competency and reviewed existing guidance on SNAP interviews. The study team also assembled expert panels of SNAP participants and State SNAP agency staff to get their perspectives.

The study team will conduct semi-structured interviews with staff from state SNAP agencies in four States during virtual site visits. During these interviews, the team will collect qualitative data on State SNAP agency interview processes, the training SNAP staff receive on conducting them, and information about any written guidance State agencies give staff on conducting interviews. The team will also ask State agency staff for feedback on the draft guides. After revising the guides based on this feedback, the study team will test them with the community; for each guide, they will conduct cognitive interviews with 40 individuals with low incomes. The cognitive interviews will use a mix of in-person and telephone formats.

Affected public. Members of the public affected by the data collection include State or local SNAP agency staff, CBO staff, and people with low incomes. Respondent groups include (1) State SNAP directors, (2) State SNAP management officials who helped develop interview guides, (3) State QC reviewers, (4) State SNAP policy officials, (5) State SNAP training officials, (6) local SNAP directors, (7) SNAP eligibility workers, (8) managers at not-for-profit organizations, and (9) people with low incomes.

Estimated number of respondents. The total estimated number of unique respondents—which includes everyone contacted for data collection regardless of whether they participate—is 278. This includes up to 185 individuals with low incomes, 85 State or local SNAP agency staff, and eight CBO staff. The study team will contact State SNAP agency directors to ask them to participate in the study. To obtain approval from four agency directors, the study team expects to contact up to eight, with half agreeing to participate and half declining.

Across the four States selected, the study will seek to complete semi-structured interviews with four State SNAP management officials who helped develop interview guides, four State SNAP policy officials, four State SNAP training officials, 16 State QC reviewers, and 32 SNAP eligibility workers. The study team will send the interview guides to respondents at least a week before the interviews so that they can review them in advance. State SNAP management officials, SNAP policy officials, and SNAP training officials will review both the eligibility and QC interview guides before their semi-structured interviews. Eligibility workers will review the eligibility interview guide and QC reviewers will review the QC interview guide. The study team will seek assistance from the SNAP agency directors in the four participating States to schedule interviews and identify community partners.

To locate people with low incomes to participate in cognitive testing, the study team will contact up to eight CBO managers and request referrals. The study team expects to contact as many as 160 individuals with low incomes and ask them to participate. The study team will schedule cognitive tests with up to 120 of them, with the expectation that 40 will not agree to participate. Among the 120 individuals scheduled to participate in a cognitive test, the study team expects to complete a cognitive test with 80, with the expectation that the other 40 will ultimately be considered nonrespondents. Of the 80 respondents, 40 will complete a cognitive test of the eligibility interview guide and 40 will complete a cognitive test of the QC interview guide.

Before the start of data collection, the study team will pre-test the semi-structured interview guide with one State SNAP management official who helped develop interview guides, one State SNAP policy official, one State SNAP training official, two State QC reviewers, and four eligibility workers in one non-study State. The study team will pre-test the eligibility interview guide with up to nine individuals with low incomes. Up to nine individuals with low incomes will complete a cognitive test of the QC interview guide.

Estimated number of responses per respondent. Across all 278 unique respondents (227 respondents and 51 nonrespondents) and 1,177 responses annually, the average number of responses is 4.30.

Estimated total annual responses. 1,177.

Estimated time per response. The estimated time per response varies from 0.02 hours for activities related to reading recruitment texts for the interviews to 1.5 hours for the cognitive testing interviews. The response time will vary depending on the respondent group, with an average estimated time per respondent of 89 minutes (1.48 hours).

Estimated total annual burden on respondents. The total estimated annual burden on respondents is 412.22 hours.

BILLING CODE 3410-30-P

Tameka Owens,
Acting Administrator and Assistant Administrator, Food and Nutrition Service.

[FR Doc. 2024-26941 Filed 11-18-24; 8:45 am]

BILLING CODE 3410-30-C